NATIONAL SCIENCE FOUNDATION

Proposal Review Panel for Ocean Sciences Notice of Meeting

In accordance with the Federal Advisory Committee Act (Pub., L. 92-463, as amended), the National Science Foundation (NSF) announces the following meeting:

NAME: Proposal Review Panel for Ocean Sciences—Site Visit (#10752).

DATE AND TIME: March 1-3, 2017; 9:00 a.m.-5:00 p.m.

PLACE: JOIDES Resolution Science Operator (JRSO), Texas A&M University, 1000 Discovery Drive, Texas A&M University West Campus, College Station, TX 77845, Conference Room C126.

TYPE OF MEETING: Part Open.

CONTACT PERSON: James F. Allan, Program Director, Ocean Drilling, Division of Ocean Sciences; National Science Foundation, 4201 Wilson Blvd., Arlington, VA 22230. Telephone: (703) 292-8144

PURPOSE OF MEETING: To provide advice and recommendations concerning the performance of the International Ocean Discovery Program (IODP) drillship facility JOIDES Resolution during FY 2016.

AGENDA:

Wednesday, March 1, 2017; 9 a.m.-5 p.m.

9:00 a.m.-9:15 a.m. NSF and panel introduction (Open)

9:15 a.m.-11:00 a.m. Initial Report of the JOIDES Resolution Science Operator (JRSO) (Open)

11:00 a.m.-12:00 p.m. Co-Chief Review Report (Open)

12:00 p.m.-1:00 p.m. Lunch (Open)

1:00 p.m.-3:00 p.m. JRSO response to Co-Chief Review Report (Open)

3:00 p.m.-5:00 p.m. Site Visit Panel discussion of presentations and overnight questions to JRSO (Closed)

Thursday, March 2, 2017; 9 a.m.-5 p.m.

9:00 a.m.-10:00 a.m. Response of JRSO to Panel questions (Open)

10:00 a.m.-12:00 p.m. JRSO discussion of major challenges in operational context, and how they are responding (Open and Closed)

12:00 p.m.-1:00 p.m. Lunch (Open)

1:00 p.m.-2:00 p.m. Meet with JRSO Staff (Closed)

2:00 p.m.-3:00 p.m. JRSO discussion of major challenges in providing services and innovation to IODP science community, and how they are responding (Open)

3:00 p.m.-4:00 p.m. Site Visit team discussion, work on report (Closed)

4:00 p.m.-4:30 p.m. Break

4:30 p.m.-5:00 p.m. Site Visit Panel discussion of major challenges and overnight questions to JRSO (Closed)

Friday, March 3, 2017; 9 a.m.-5 p.m.

9:00 a.m.-10:00 a.m. Response of JRSO to Panel questions (Open)

10:00 a.m.-12:00 p.m. Site Visit Panel discussion; work on report (Closed)

12:00 p.m.-1:00 p.m. Lunch (Closed)

1:00 p.m.-3:30 p.m. Site Visit Panel discussion; work on report (Closed)

3:30 p.m.-4:00 p.m. Break

4:00 p.m.-5:00 p.m. Site Visit Panel presents report and recommendations to JRSO (Closed)

REASON FOR CLOSING: During closed sessions the review will include information of a proprietary or confidential nature, including technical information; financial data, such as salaries; and personal information concerning individuals associated with the proposals. These matters are exempt under 5 U.S.C. 552b(c), (4) and (6) of the Government in the Sunshine Act.

Dated: January 18, 2017.
Crystal Robinson,
Committee Management Officer.

[FR Doc. 2017-01486 Filed 1-23-17; 8:45 am]

BILLING CODE 7555-01-P